DEPARTMENT OF ENERGY

Federal Energy Regulatory Commission

[Docket No. ER18-1455-000]

Southern Power Company; Notice Shortening Comment Period

On April 25, 2018, Southern Power Company (Southern) filed a petition for waiver and request for shortened comment period and expedited action (Petition) in the above-referenced proceeding. Included in Southern's Petition was a request to shorten the date for filing comments to the Petition.

Upon consideration, notice is hereby given that the date for filing comments to Southern's request is shortened to and including May 1, 2018.

Dated: April 30, 2018.
Kimberly D. Bose,
Secretary.

[FR Doc. 2018-09485 Filed 5-3-18; 8:45 am]

BILLING CODE 6717-01-P